POSTAL REGULATORY COMMISSION

[Docket No. RM2015-2; Order No. 2425]

Notice of Technical Meeting

AGENCY: Postal Regulatory Commission.

ACTION: Notice.

SUMMARY: A technical meeting has been scheduled in Docket No. RM2015-2. The technical meeting will review modifications to Proposal Nine and their impact on the supporting financial workpapers.

DATES: April 14, 2015, at 1:00 p.m.

ADDRESSES: The technical meeting will be held in the Commission's hearing room at 901 New York Avenue NW., Suite 200, Washington, DC 20268-0001.

FOR FURTHER INFORMATION CONTACT: David A. Trissell, General Counsel, at 202-789-6820.

SUPPLEMENTARY INFORMATION: A technical meeting will be held in this docket on Tuesday, April 14, 2015, at 1:00 p.m., Eastern Daylight Time (EDT), in the Commission's main conference room. The purpose of this meeting is to allow Commission staff to review modifications to Proposal Nine and their impact on supporting financial workpapers with United States Postal Service personnel.¹

¹ See Responses of the United States Postal Service to Questions 1-19 of Chairman's Information Request No. 3, February 23, 2015, question 1, where the Postal Service, inter alia, states: However, upon review generated by the need to respond to this question, the Postal Service would like to modify the proposal . . ..

The technical meeting is open to interested persons.

It is ordered:

1. A technical meeting is scheduled on April 14, 2015, at 1:00 p.m. EDT, in the Commission's main conference room to address Postal Service-initiated modifications to Proposal Nine and their impact on supporting financial workpapers.

2. The Secretary shall arrange for publication of this order in the Federal Register.

By the Commission.
Ruth Ann Abrams,
Acting Secretary.

[FR Doc. 2015-08216 Filed 4-9-15; 8:45 am]

BILLING CODE 7710-FW-P